DEPARTMENT OF AGRICULTURE

Animal and Plant Health Inspection Service

9 CFR Part 78

[Docket No. 01-095-1]

Brucellosis: Testing of Rodeo Bulls

AGENCY: Animal and Plant Health Inspection Service, USDA.

ACTION: Proposed rule.

SUMMARY: We are proposing to amend the brucellosis regulations by eliminating the annual brucellosis testing requirement for rodeo bulls moving interstate between brucellosis Class Free States. Since other cattle moving between Class Free States are not required to be tested for brucellosis, this requirement for rodeo bulls moving between such States is more restrictive than the requirements for other test-eligible cattle. This action would update our brucellosis regulations by making the requirements for moving rodeo bulls more consistent with those for moving other test-eligible cattle between Class Free States.

DATES: We will consider all comments we receive that are postmarked, delivered, or e-mailed by June 24, 2002.

ADDRESSES: You may submit comments by postal mail/commercial delivery or by e-mail. If you use postal mail/commercial delivery, please send four copies of your comment (an original and three copies) to: Docket No. 01-095-1, Regulatory Analysis and Development, PPD, APHIS, Station 3C71, 4700 River Road Unit 118, Riverdale, MD 20737-1238. Please state that your comment refers to Docket No. 01-095-1. If you use e-mail, address your comment to regulations@aphis.usda.gov. Your comment must be contained in the body of your message; do not send attached files. Please include your name and address in your message and “Docket No. 01-095-1” on the subject line.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Valerie Ragan, Senior Staff Veterinarian, National Animal Health Programs, VS, APHIS, 4700 River Road Unit 43, Riverdale, MD 20737-1231; (301) 734-6954.

SUPPLEMENTARY INFORMATION:

Background

Brucellosis is a contagious disease affecting animals and humans, caused by bacteria of the genus Brucella.

The brucellosis regulations contained in 9 CFR part 78, subpart B (referred to below as the regulations) restrict the interstate movement of cattle in order to prevent the spread of brucellosis.

The regulations provide a system for classifying States or portions of States according to the rate of Brucella infection present and the general effectiveness of a State's brucellosis eradication program. The classifications are Class Free, Class A, Class B, and Class C. States or areas that do not meet the minimum standards for Class C are placed under Federal quarantine.

The brucellosis Class Free classification is based on a finding of no known brucellosis in cattle for the 12 months preceding classification or reclassification as Class Free. The Class C classification is for States or areas with the highest rate of brucellosis. Class A and Class B fall between these two extremes. Restrictions on moving cattle interstate become less stringent as a State approaches or achieves Class Free status.

Currently, the regulations at § 78.14 require rodeo bulls moving interstate to be tested for brucellosis once every 365 days. However, the regulations in § 78.14 do not take into account the classification of the States from which or into which the rodeo bulls are being moved.

Since cattle being moved from a Class Free State are not required to be tested for brucellosis, this requirement for rodeo bulls moving between such States is more restrictive than the requirements for other test-eligible cattle. The annual testing requirement for all rodeo bulls was considered necessary at the time the current regulations were established because brucellosis was more prevalent in the United States at that time than it is now. Rodeo bulls, owing to the peripatetic nature of the rodeo industry, move between States more frequently than do other cattle and thus were more likely to be shipped to or from Class A, B, or C States at a time when more States held those classifications. In recent years, however, the number of Class Free States has increased to the point where 48 of the 50 States now qualify as brucellosis Class Free, greatly reducing the risk of brucellosis transmission via interstate movement of rodeo bulls. Therefore, we propose to update our brucellosis regulations by eliminating the annual testing requirement for rodeo bulls moving between Class Free States, while retaining the testing requirement for rodeo bulls that are moved interstate into or from States that are not Class Free. This proposed change would make the requirements for moving rodeo bulls more consistent with the requirements for moving other test-eligible cattle between Class Free States.

Executive Order 12866 and Regulatory Flexibility Act

This proposed rule has been reviewed under Executive Order 12866. The rule has been determined to be not significant for the purposes of Executive Order 12866 and, therefore, has not been reviewed by the Office of Management and Budget.

This proposed rule would amend the brucellosis regulations in § 78.14 by eliminating the annual brucellosis testing requirement for rodeo bulls moving interstate in cases where the bulls are being moved only between brucellosis Class Free States.

This proposed rule would primarily affect stock contractors who raise and supply bulls for rodeo events. More specifically, this rule would affect stock contractors who are located in States other than Texas and Missouri—the only two States not currently classified as Class Free States—and who do not move their bulls interstate to Texas and Missouri. The number of stock contractors who fall into this category, as well as the total number stock contractors nationally, is unknown.

Those stock contractors who move their bulls interstate only between Class Free States would realize a cost savings of about $25 to $30 per animal per year (i.e., the cost of a brucellosis test and associated veterinary fees). Thus, a stock contractor with 20 bulls would see a savings of about $500 to $600 per year in testing expenses.

While stock contractors are not specifically categorized in the Small Business Administration's (SBA) table of small business size standards, they could be considered under either Subsector 112 of that table (Animal Production), which has a small entity threshold of $750,000, or Subsector 711 (Performing Arts, Spectator Sports and Related Industries), which has a small entity threshold of $6 million in annual sales. According to the National Agricultural Statistics Service, over 99 percent of all operations raising cattle and calves ($750,000 threshold) are small entities, while large operations account for less than 1 percent. Therefore, it is likely that most, if not all, stock contractors would be considered small entities under SBA size standards.

Given that the potential savings per animal in foregone testing costs ($25 to $30) can be expected to make up only a small percentage of the total expenses associated with maintaining a rodeo bull (e.g., feed and routine veterinary care), the potential economic impact of this proposed rule is expected to be small.

Under these circumstances, the Administrator of the Animal and Plant Health Inspection Service has determined that this action would not have a significant economic impact on a substantial number of small entities.

Executive Order 12372

This program/activity is listed in the Catalog of Federal Domestic Assistance under No. 10.025 and is subject to Executive Order 12372, which requires intergovernmental consultation with State and local officials. (See 7 CFR part 3015, subpart V.)

Executive Order 12988

This proposed rule has been reviewed under Executive Order 12988, Civil Justice Reform. If this proposed rule is adopted: (1) All State and local laws and regulations that are in conflict with this rule will be preempted; (2) no retroactive effect will be given to this rule; and (3) administrative proceedings will not be required before parties may file suit in court challenging this rule.

Paperwork Reduction Act

This proposed rule contains no information collection or recordkeeping requirements under the Paperwork Reduction Act of 1995 (44 U.S.C. 3501 et seq.).

List of Subjects in 9 CFR Part 78

Animal diseases, Bison, Cattle, Hogs, Quarantine, Reporting and recordkeeping requirements, Transportation.

Accordingly, we propose to amend 9 CFR part 78 as follows:

PART 78—BRUCELLOSIS

1. The authority citation for part 78 continue to read as follows:

Authority: 21 U.S.C. 111-114a-1, 114g, 115, 117, 120, 121, 123-126, 134b, and 134f; 7 CFR 2.22, 2.80, and 371.4.

2. Section 78.14 would be amended by revising paragraph (a)(1) to read as follows:

§ 78.14 Rodeo bulls.

(a) * * *

(1) The bull is classified as brucellosis negative based upon an official test conducted less than 365 days before the date of interstate movement: Provided, however, That the official test is not required for a bull that is moved only between Class Free States;

* * * * *

Done in Washington, DC, this 17th day of April, 2002.
W. Ron DeHaven,
Acting Administrator, Animal and Plant Health Inspection Service.

[FR Doc. 02-10110 Filed 4-24-02; 8:45 am]

BILLING CODE 3410-34-P